OFFICE OF THE UNITED STATES TRADE REPRESENTATIVE

[Docket No. WTO/DS-244]

WTO Dispute Settlement Proceeding Brought by Japan Regarding the Sunset Review of Antidumping Duties on Corrosion-Resistant Carbon Steel Flat Products From Japan

AGENCY: Office of the United States Trade Representative.

ACTION: Notice; request for comments.

SUMMARY: The Office of the United States Trade Representative (USTR) is providing notice of the request by the Government of Japan for the establishment of a dispute settlement panel under the Marrakesh Agreement Establishing the World Trade Organization (WTO) to examine certain aspects of the final determinations of both the United States Department of Commerce (DOC) and the United States International Trade Commission (ITC) in the full sunset review of antidumping duties on corrosion-resistant carbon steel flat products from Japan, issued on August 2, 2000, and November 21, 2000, respectively. USTR is also providing notice that a dispute settlement panel to examine the same matter has been established. USTR invites written comments from the public concerning the issues raised in this dispute.

DATES: Although USTR will accept any comments received during the course of the dispute settlement proceedings, comments should be submitted on or before July 12, 2002, to be assured of timely consideration by USTR.

ADDRESSES: Comments should be submitted (i) electronically, to japancrsteel@ustr.gov, or (ii) by mail, to Sandy McKinzy, Attn: Japan Corrosion-Resistant Steel, Office of the United States Trade Representative, 600 17th Street, NW., Washington, DC 20508, with a confirmation copy sent electronically or by fax to (202) 395-3640.

FOR FURTHER INFORMATION CONTACT: Katharine J. Mueller, Assistant General Counsel, (202) 395-0317.

SUPPLEMENTARY INFORMATION: Pursuant to Section 127(b) of the Uruguay Round Agreements Act (URAA) (19 U.S.C. 3537(b)(1)), USTR is providing notice that on April 4, 2002, the Government of Japan submitted a request for the establishment of a dispute settlement panel to examine certain aspects of the final determinations of DOC and ITC in the full sunset review of antidumping duties on corrosion-resistant carbon steel flat products from Japan, and that, on May 22, 2002, a WTO dispute settlement panel was established at the request of the Government of Japan to examine the same matter.

Major Issues Raised and Legal Basis of the Complaint

Japan alleges that the DOC and ITC final determinations in the full sunset review of antidumping duties on corrosion-resistant carbon steel flat products from Japan, issued on August 2, 2000, and November 21, 2000, respectively, are erroneous and based on WTO-inconsistent provisions of the Tariff Act of 1930 and related regulations. Japan points in particular to:

• The automatic initiation of the sunset review without sufficient evidence;

• The likelihood standard used in determining whether to revoke or terminate an order, including the “good cause” provision determining whether the DOC may consider other relevant factors;

• The use of original (pre-WTO) dumping margins to determine the likelihood of continuation or recurrence of dumping and injury;

• The determination of the likelihood of continued or recurrent dumping on an order-wide basis rather than a company-specific basis;

• The treatment as “zero” of negative dumping amounts in the margins of dumping likely to prevail in the event of revocation;

• The decision of DOC not to accept certain information submitted by a Japanese respondent;

• The application of a de minimis standard of 0.5 percent in sunset reviews;

• The determination of ITC to cumulate imports without considering wither imports were negligible.

Japan contends that these aspects of the final determinations are inconsistent with Articles VI and X of the General Agreement on Tariffs and Trade 1994; Articles 2, 3, 5, 6, 11, 12, and 18 of the Antidumping Agreement; and Article XVI:4 of the Marrakesh Agreement Establishing the World Trade Organization.

Public Comment: Requirements for Submissions

Interested persons are invited to submit written comments concerning the issues raised in the dispute. Comments must be in English. Commenters should send either one copy by U.S. mail, first class, postage prepaid, to Sandy McKinzy at the address listed above, or transmit a copy electronically to japancrsteel@ustr.gov. For documents sent by U.S. mail, USTR requests that the submitter provide a confirmation copy, either electronically or by fax to (202) 395-3640. USTR encourages the submission of documents in Adobe PDF format, as attachments to an electronic mail.

A person requesting that information contained in a comment submitted by that person be treated as confidential business information must certify that such information is business confidential and would not customarily be released to the public by the commenter. Confidential business information must be clearly marked “BUSINESS CONFIDENTIAL” in a contrasting color ink at the top of each page of each copy. For any document containing business confidential information submitted by electronic transmission, the file name of the business confidential version should begin with the characters “BC”, and the file name of the public version should begin with the characters “P”. The “P” or “BC” should be followed by the name of the commenter. Interested persons who make submissions by electronic mail should not provide separate cover letters; information that might appear in a cover letter should be included in the submission itself. Similarly, to the extent possible, any attachments to the submission should be included in the same file as the submission itself, and not as separate files.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy, or appropriately name the electronic file submitted containing such material; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body.

An appointment to review the public file (Docket WTO/DS-244, Japan Corrosion-Resistant Steel Dispute) may be made by calling the USTR Reading Room at (202) 395-6186. The USTR Reading Room is open to the public at 9:30 a.m. to 12 noon and 1 p.m. to 4 p.m., Monday through Friday.

Bruce R. Hirsch,
Acting Assistant United States Trade Representative for Monitoring and Enforcement.

[FR Doc. 02-15359 Filed 6-18-02; 8:45 am]

BILLING CODE 3190-01-M